TENNESSEE VALLEY AUTHORITY

Environmental Impact Statement for Allen Fossil Plant Ash Impoundment Closures

AGENCY: Tennessee Valley Authority.

ACTION: Notice of intent.

SUMMARY: The Tennessee Valley Authority (TVA) intends to prepare an Environmental Impact Statement (EIS) to address the potential environmental effects associated with the future management of coal combustion residual (CCR) material at the Allen Fossil Plant (ALF) located in Shelby County, Tennessee, southwest of the City of Memphis. The purpose of this EIS is to support the implementation of TVA's goal to eliminate all wet CCR storage at its coal plants by closing CCR surface impoundments across the TVA system, and to assist TVA in complying with the Environmental Protection Agency's (EPA) CCR Rule. In addition, the proposed actions would make the ALF closure area land available for future economic development projects in the greater Memphis area.

TVA will evaluate closure of the East Ash Pond Complex, the West Ash Pond, and the Metal Cleaning Pond. In addition to these closures, TVA will analyze potential location requirements and associated environmental impacts associated with construction and utilization of a proposed beneficial re-use facility to process CCR materials. TVA will also evaluate potential impacts associated with actions requiring use of permitted borrow sites and the disposal of CCR at existing offsite permitted landfills. TVA will develop and evaluate various alternatives to these actions, including the No Action Alternative. Public comments are invited concerning both the scope of the review and environmental issues that should be addressed.

DATES: Comments on the scope of the EIS must be received on or before January 4, 2019.

ADDRESSES: Written comments should be sent to Ashley Farless, NEPA Compliance Specialist, 1101 Market Street, BR4A-C, Chattanooga, TN 37402. Comments also may be submitted online at: https://www.tva.gov/nepa or by email to arfarless@tva.gov.

FOR FURTHER INFORMATION CONTACT: Other related questions should be sent to Ashley Farless, NEPA Compliance Specialist, Tennessee Valley Authority, at 423-751-2361 or arfarless@tva.gov.

SUPPLEMENTARY INFORMATION: This notice is provided in accordance with the Council on Environmental Quality's regulations (40 CFR parts 1500 to 1508) and TVA's procedures for implementing the National Environmental Policy Act (NEPA) and Section 106 of the National Historic Preservation Act (NHPA) and its implementing regulations (36 CFR part 800).

TVA Power System and CCR Management

TVA is a corporate agency and instrumentality of the United States created by and existing pursuant to the TVA Act of 1933 that provides electricity for business customers and local power distributors. TVA serves more than 9 million people in parts of seven southeastern states. TVA receives no taxpayer funding, deriving virtually all of its revenues from sales of electricity. In addition to operating and investing its revenues in its electric system, TVA provides flood control, navigation and land management for the Tennessee River system and assists local power companies and state and local governments with economic development and job creation.

Historically, TVA has managed its CCRs in wet impoundments or dry landfills. On March 31, 2018, ALF's three coal-fired units were retired. While in operation, ALF consumed approximately 7,200 tons of coal a day and produced approximately 5,160 million kilowatt-hours of electricity a year. CCR produced by the collective units included approximately 85,000 dry tons of slag and fly ash that was wet-sluiced to the East Ash Pond Complex every year.

It is estimated that approximately 250,000 cubic yards (yd³) of CCR material remains in the West Ash Pond and approximately 2.7 million cubic yards (yd³) of CCR material remains in the East Ash Pond Complex. There are approximately 193,000 cubic yards of CCR in the area surrounding the Metal Cleaning Pond.

In July 2009, the TVA Board of Directors passed a resolution for staff to review TVA practices for storing CCRs at its generating facilities, including ALF, which resulted in a recommendation to convert the wet ash management system at ALF to a dry storage system. On April 17, 2015, the EPA published the final Disposal of CCRs from Electric Utilities rule, also known as the CCR Rule.

In June 2016, TVA issued a Final Programmatic Environmental Impact Statement (PEIS) that analyzed methods for closing CCR impoundments at TVA fossil plants and identified specific screening and evaluation factors to help frame its evaluation of closures at its other facilities. A Record of Decision was released in July 2016 that would allow future environmental reviews of qualifying CCR impoundment closures to tier from the PEIS. This EIS is intended to tier from the 2016 PEIS to evaluate the closure alternatives for the CCR Ash Impoundments at ALF.

Alternatives

In addition to a No Action Alternative, this EIS will address alternatives that meet the purpose and need for the project. TVA plans to consider the following: (1) No Action, (2) closure of the Metal Cleaning Pond and closure-by-removal of the East Ash Pond Complex, the West Ash Pond and the CCR surrounding the Metal Cleaning Pond to an offsite landfill location (note that the Metal Cleaning Pond would be removed by default while removing the CCR material surrounding it), (3) closure of the Metal Cleaning Pond and closure-by-removal of the East Ash Pond Complex, the West Ash Pond and the CCR surrounding the Metal Cleaning Pond to a beneficial re-use facility & offsite landfill location (see note above in #2), and (4) closure of the Metal Cleaning Pond and closure-in-place of all CCR in the East Ash Pond Complex, the West Ash Pond and CCR surrounding the Metal Cleaning Pond.

Proposed Resources and Issues To Be Considered

This EIS will identify the purpose and need of the project and will contain descriptions of the existing environmental and socioeconomic resources within the area that could be affected by the management of CCR at ALF. Evaluation of potential environmental impacts to these resources will include, but not be limited to, water quality, aquatic and terrestrial ecology, threatened and endangered species, wetlands, land use, historic and archaeological resources, as well as solid and hazardous waste, safety, socioeconomic and environmental justice issues. The final range of issues to be addressed in the environmental review will be determined, in part, from scoping comments received. The preliminary identification of reasonable alternatives and environmental issues in this notice is not meant to be exhaustive or final.

Public Participation

TVA is interested in an open process and wants input from the community. The public is invited to submit comments on the scope of this EIS no later than the date identified in the “Dates” section of this notice. Federal, state and local agencies and Native American Tribes are also invited to provide comments.

After consideration of comments received during the scoping period, TVA will develop and distribute a scoping document that will summarize public and agency comments that were received and identify the schedule for completing the EIS process. Following analysis of the issues, TVA will prepare a draft EIS for public review and comment. In making its final decision, TVA will consider the analyses in this EIS and substantive comments that it receives. A final decision on proceeding with the management and final disposal of CCR and closure of the surface impoundments will depend on a number of factors. These include results of the EIS, requirements of the CCR Rule, relevant state law requirements, engineering and risk evaluations, and financial considerations.

TVA anticipates holding a community meeting near ALF after releasing the Draft EIS. Meeting details will be posted on TVA's website. TVA expects to release the Draft EIS in the Fall of 2019.

Authority: 40 CFR 1501.7.

M. Susan Smelley,
Director, Environmental Compliance and Operations.

[FR Doc. 2018-25914 Filed 11-29-18; 8:45 am]

BILLING CODE 8120-08-P